DEPARTMENT OF JUSTICE

Executive Office for United States Trustees; Agency Information Collection Activities: Proposed Collection; Comments Requested

ACTION: 60-Day Emergency Notice of Information Collection Under Review: Application for Approval as a Nonprofit Budget and Credit Counseling Agency.

This notice is published to correct the agency contact information for public comments, published in the Federal Register notice on June 17, 2005, Volume 70, Number 116, on page 35302. All comments and suggestions, or questions regarding additional information, to include obtaining a copy of the proposed information collection instrument with instructions, should be directed to Mark Neal, Assistant United States Trustee, Executive Office for United States Trustees, Department of Justice, 20 Massachusetts Avenue, NW., Suite 8000, Washington, DC 20530, or by facsimile at (202) 307-2397.

If additional information is required contact: Brenda E. Dyer, Department Clearance Officer, United States Department of Justice, Justice Management Division, Policy and Planning Staff, Patrick Henry Building, Suite 1600, 601 D Street, NW., Washington, DC 20530.

Dated: June 21, 2005.
Brenda E. Dyer,
Department Clearance Officer, Department of Justice.

[FR Doc. 05-12641 Filed 6-24-05; 8:45 am]

BILLING CODE 4410-40-P